SECURITIES AND EXCHANGE COMMISSION

[Release No. 34-47089; File No. SR-NYSE-2002-43]

Self-Regulatory Organizations; Order Approving Proposed Rule Change by the New York Stock Exchange, Inc. Relating to Arbitration

December 23, 2002.

On September 4, 2002, the New York Stock Exchange, Inc. filed with the Securities and Exchange Commission (“Commission”), pursuant to section 19(b)(1) of the Securities Exchange Act of 1934 (“Act”)¹ and rule 19b-4 thereunder,² a proposed rule change to: Increase the ceilings for claims eligible for simplified arbitration and arbitration claims between members to be decided by one arbitrator; clarify that both a filing fee and a hearing deposit must be submitted with a claim; increase a pre-hearing conference fee and the maximum adjournment fee; and make certain technical changes to fee schedules.

¹ 15 U.S.C. 78s(b)(1).

² 17 CFR 240.19b-4.

The proposed rule was published for comment in the Federal Register on November 20, 2002.³ No comments were received on the proposal. In this order, the Commission is approving the proposed rule change.

³ See Securities Exchange Act Release No. 34-46824 (November 13, 2002), 67 FR 70098.

The Commission finds that the proposed rule change is consistent with the requirements of the Act and the rules and regulations thereunder applicable to a national securities exchange ⁴ and, in particular, with the requirements of section 6(b)(5).⁵

⁴ In approving this proposed rule change, the Commission notes that it has considered the proposed rule's impact on efficiency, competition, and capital formation. 15 U.S.C. 78c(f).

⁵ 15 U.S.C. 78f(b)(5).

In particular, the Commission finds that the proposed rule change is consistent with section 6(b)(5)⁶ of the Act in that it is designed to promote just and equitable principles of trade and is consistent with section 6(b)(4)⁷ in that it provides for equitable allocation of reasonable dues, fees, and other charges.

⁶ 15 U.S.C. 78f(b)(5).

⁷ 15 U.S.C. 78f(b)(4).

It is therefore ordered, pursuant to section 19(b)(2) of the Act,⁸ that the proposed rule change (SR-NYSE-2002-43), is approved.

⁸ 15 U.S.C. 78s(b)(2).

For the Commission, by the Division of Market Regulation, pursuant to delegated authority.⁹

⁹ 17 CFR 200-30-3(a)(12).

[FR Doc. 02-33123 Filed 12-31-02; 8:45 am]

BILLING CODE 8010-01-P